POSTAL SERVICE

International Product Change—Global Expedited Package Services—Non- Published Rates

AGENCY: Postal Service™.

ACTION: Notice.

SUMMARY: The Postal Service gives notice of filing a request with the Postal Regulatory Commission to add Global Expedited Package Services—Non-Published Rates 2 to the Competitive Products List pursuant to 39 U.S.C. 3642.

DATES: January 18, 2011.

FOR FURTHER INFORMATION CONTACT: Margaret M. Falwell, 703-292-3576.

SUPPLEMENTARY INFORMATION: The United States Postal Service® hereby gives notice that it filed with the Postal Regulatory Commission, on December 15, 2010, a Request of the United States Postal Service to add Global Expedited Package Services—Non-Published Rates, to the Competitive Products List, and Notice of Filing (Under Seal) the Enabling Governors' Decision. Documents are available at http://www.prc.gov, Docket Nos. MC2010-29 and CP2010-45.

Neva R. Watson,
Attorney, Legislative.

[FR Doc. 2011-854 Filed 1-14-11; 8:45 am]

BILLING CODE 7710-12-P